DEPARTMENT OF HEALTH AND HUMAN SERVICES

Health Resources and Services Administration

Advisory Committee on Infant Mortality; Notice of Meeting

In accordance with section 10(a)(2) of the Federal Advisory Committee Act (Pub. L. 92-463), notice is hereby given of the following meeting:

Name: Advisory Committee on Infant Mortality (ACIM).

Dates and Times: July 13, 2015, 8:30 a.m.-5:30 p.m. (EST), July 14, 2015, 8:30 a.m.-3:30 p.m. (EST).

Place: Virtual via Webinar URL: https://hrsa.connectsolutions.com/sacim_seminar_200/. Call-In Number: 1.888.942.8170. Passcode: 3494113.

Status: The meeting is open to the public with attendance limited to availability of call-in lines. For more details and registration, please visit the ACIM Web site: http://www.hrsa.gov/advisorycommittees/mchbadvisory/InfantMortality/index.html).

Purpose: The Committee provides advice and recommendations to the Secretary of Health and Human Services on the following: Department of Health and Human Services' programs that focus on reducing infant mortality and improving the health status of infants and pregnant women; and factors affecting the continuum of care with respect to maternal and child health care. The Committee focuses on outcomes following childbirth; strategies to coordinate myriad federal, state, local, and private programs and efforts that are designed to deal with the health and social problems impacting infant mortality; and the implementation of the Healthy Start program and Healthy People 2020 infant mortality objectives.

Agenda: Topics that will be discussed include the following: HRSA Update; MCHB Update; Healthy Start Program Update; the PREEMIE Act; and, ACIM's recommendations for the HHS National Strategy to Address Infant Mortality, specifically, Strategy 5: Invest in adequate data, monitoring, and surveillance systems to measure access, quality, and outcomes.

Proposed agenda items are subject to change as priorities dictate. The most current agenda will be posted on the ACIM Web site.

Time will be provided for public comments limited to 5 minutes each. Comments are to be submitted in writing no later than 5:00 p.m. EST on Friday July 3, 2015.

FOR FURTHER INFORMATION CONTACT: Anyone requiring information regarding the Committee should contact Michael C. Lu, M.D., M.P.H., Executive Secretary, ACIM, Health Resources and Services Administration, Room 18 W, Parklawn Building, 5600 Fishers Lane, Rockville, Maryland 20857, telephone: (301) 443-2170.

Individuals who are submitting public comments or who have questions regarding the meeting and location should contact David S. de la Cruz, Ph.D., M.P.H., ACIM Designated Federal Official, HRSA, Maternal and Child Health Bureau, telephone: (301) 443-0543, or email: David.delaCruz@hrsa.hhs.gov.

Jackie Painter,
Director, Division of the Executive Secretariat.

[FR Doc. 2015-15741 Filed 6-25-15; 8:45 am]

BILLING CODE 4165-15-P